ENVIRONMENTAL PROTECTION AGENCY

[FRL OP-OFA-007]

Environmental Impact Statements; Notice of Availability

Responsible Agency: Office of Federal Activities, General Information 202-564-5632 or https://www.epa.gov/nepa.

Weekly Receipt of Environmental Impact Statements (EIS)

Filed February 28, 2022 10 a.m. EST Through March 7, 2022 10 a.m. EST

Pursuant to 40 CFR 1506.9.

Notice: Section 309(a) of the Clean Air Act requires that EPA make public its comments on EISs issued by other Federal agencies. EPA's comment letters on EISs are available at: https://cdxnodengn.epa.gov/cdx-enepa-public/action/eis/search.

EIS No. 20220029, Draft, FERC, PA, Regional Energy Access Expansion Project, Comment Period Ends: 04/25/2022, Contact: Office of External Affairs 866-208-3372.

Dated: March 7, 2022.
Cindy S. Barger,
Director, NEPA Compliance Division, Office of Federal Activities.

[FR Doc. 2022-05204 Filed 3-10-22; 8:45 am]

BILLING CODE 6560-50-P